FEDERAL COMMUNICATIONS COMMISSION

47 CFR Part 51

[WC Docket No. 19-308; DA No. 22-925; FR ID 105840]

Pleading Cycle Established for Petition for Reconsideration Filed by Sonic Telecom, LLC

AGENCY: Federal Communications Commission.

ACTION: Notice; request for comments; correction.

SUMMARY: The Wireline Competition Bureau published a document in the Federal Register on September 19, 2022, establishing a pleading cycle for the Petition for Reconsideration filed by Sonic Telecom, LLC of portions of the Modernizing Unbundling and Resale Requirements in an Era of Next-Generation Networks and Services Report and Order. There is a typographical error in the dates section of this document, incorrectly referring to the reply deadline as on or before “September 29, 2022” when it should read “October 14, 2022.”

DATES: This correction is effective immediately.

FOR FURTHER INFORMATION CONTACT: Megan Danner, Competition Policy Division, Wireline Competition Bureau, at Megan.Danner@fcc.gov, or (202) 418-1151.

SUPPLEMENTARY INFORMATION:

Correction

In the Federal Register of September 19, 2022, in FR doc. 2022-20153, on page 57165, in the first column, correct the reply deadline to read: “October 14, 2022.”

Federal Communications Commission.
Pamela Arluk,
Division Chief, Competition Policy Division, Wireline Competition Bureau.

[FR Doc. 2022-21195 Filed 9-29-22; 8:45 am]

BILLING CODE 6712-01-P